DEPARTMENT OF COMMERCE

International Trade Administration

[A-201-822]

Stainless Steel Sheet and Strip in Coils From Mexico; Extension of Time Limit for Preliminary Results of Antidumping Duty Administrative Review

AGENCY: Import Administration, International Trade Administration, Department of Commerce.

EFFECTIVE DATE: March 8, 2005.

FOR FURTHER INFORMATION CONTACT: Angela Strom at (202) 482-2704, Maryanne Burke at (202) 482-5604 or Robert James at (202) 482-0649, AD/CVD Operations, Office 7, Import Administration, International Trade Administration, U.S. Department of Commerce, 14th Street and Constitution Avenue, NW., Washington, DC 20230.

Background

On July 30, 2004, the Department of Commerce (the Department) received timely requests to conduct an administrative review of the antidumping duty order on stainless steel sheet and strip in coils from Mexico. On August 30, 2004, the Department published a notice of initiation of this administrative review, covering the period of July 1, 2003, to June 30, 2004 (69 FR 52857). The preliminary results are currently due no later than April 2, 2005.

Extension of Time Limits for Preliminary Results

Section 751(a)(3)(A) of the Tariff Act of 1930, as amended (the Tariff Act), requires the Department to complete the preliminary results of an administrative review within 245 days after the last day of the anniversary month of an order for which a review is requested. However, if it is not practicable to complete the review within these time periods, section 751(a)(3)(A) of the Act allows the Department to extend the time limit for the preliminary results to a maximum of 365 days after the last day of the anniversary month of an order for which a review is requested.

We are currently analyzing a number of complex issues with respect to the basis for normal value which must be addressed prior to the issuance of the preliminary results. Specifically, further analysis is needed in relation to downstream sales, billing adjustments, currency conversions and cost of production data used in the margin calculation program. This requires additional time and makes it impracticable to complete the preliminary results of this review within the originally anticipated time limit. Accordingly, the Department is extending the time limit for completion of the preliminary results of this administrative review no later than July 31, 2005, which is 365 days from the last day of the anniversary month. We intend to issue the final results no later than 120 days after publication of the preliminary results notice.

Dated: March 2, 2005.
Barbara E. Tillman,
Acting Deputy Assistant Secretary for Import Administration.

[FR Doc. E5-974 Filed 3-7-05; 8:45 am]

BILLING CODE 3510-DS-P